DEPARTMENT OF JUSTICE

Notice of Lodging of Proposed Consent Decree Under the Comprehensive Environmental Response, Compensation and Liability Act

On June 6, 2013, the Department of Justice lodged a proposed settlement entitled “Interim Past Costs Consent Decree” (the “Consent Decree”) with the United States District Court for the District of Montana in the case of United States v. Atlantic Richfield Company et al., Civil Action No. CV-89-39-BU-SEH. The Consent Decree settles the United States' claim for certain response costs incurred under Section 107(a) of the Comprehensive Environmental Response, Compensation, and Liability Act, 42 U.S.C. 9607(a), in connection with the environmental remediation of the Anaconda Smelter NPL Superfund Site and the Warm Springs Ponds Operable Units (the “Sites”), near Anaconda, Montana. Under the terms of the Consent Decree, Atlantic Richfield Company will pay the United States $21,030,000 for EPA's costs incurred in responding to releases and threatened releases of hazardous substances at the Sites from August 1, 2002 through December 31, 2010, and for the costs of Department of Justice enforcement efforts paid in connection with the Sites and other Superfund sites within Montana's Clark Fork River Basin from April 29, 2007 through December 31, 2010.

The publication of this notice opens a period for public comment on the Consent Decree. Comments should be addressed to the Assistant Attorney General, Environment and Natural Resources Division, and should refer to United States v. Atlantic Richfield Company, et al., D.J. Ref. No. 90-11-2-430. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611.

During the public comment period, the Consent Decree may be examined and downloaded at this Justice Department Web site: http://www.justice.gov/enrd/Consent_Decrees.htm. We will provide a paper copy of the Consent Decree upon written request and payment of reproduction costs. Please mail your request and payment to: Consent Decree Library, U.S. DOJ—ENRD, P.O. Box 7611, Washington, DC 20044-7611.

Please enclose a check or money order for $6.00 (25 cents per page reproduction cost) payable to the United States Treasury.

Robert Brook,
Assistant Section Chief, Environmental Enforcement Section, Environment and Natural Resources Division.

[FR Doc. 2013-13903 Filed 6-11-13; 8:45 am]

BILLING CODE 4410-15-P